DEPARTMENT OF HOMELAND SECURITY

Coast Guard

33 CFR Part 100

[Docket No. USCG-2023-0791]

Special Local Regulations; Northern California and Lake Tahoe Area Annual Marine Events; Sacramento Ironman Swim, Sacramento, CA

AGENCY: Coast Guard, Department of Homeland Security (DHS).

ACTION: Notification of enforcement of regulation.

SUMMARY: The Coast Guard will enforce the special local regulations for the annual Sacramento Ironman Swim on October 22, 2023, to provide for the safety of life on navigable waterways in the American River and Sacramento River during this event. The regulation for marine events in Northern California identifies the regulated area for this event in Sacramento, CA. During the enforcement period, unauthorized persons or vessels are prohibited from entering into, transiting through, or loitering or anchoring in the regulated area, unless authorized by the designated Patrol Commander (PATCOM) or other Federal, State, or local law enforcement agencies on scene to assist the Coast Guard in enforcing the regulated area.

DATES: The regulations in 33 CFR 100.1103 will be enforced for the location in table 1 to § 100.1103, Item number 5, from 4:30 a.m. to 10:30 a.m. on October 22, 2023.

FOR FURTHER INFORMATION CONTACT: If you have questions about this notification of enforcement, call, or email MST1 Shannon Curtaz-Milian, Sector San Francisco Waterways Management, U.S. Coast Guard; telephone (415) 399-7440, email SFWaterways@uscg.mil.

SUPPLEMENTARY INFORMATION: The Coast Guard will enforce the special local regulations in 33 CFR 100.1103, table 1 to § 100.1103, Item number 5, for the Sacramento Ironman Swim regulated area from 4:30 a.m. to 10:30 a.m. on October 22, 2023. This action is being taken to provide for the safety of life on navigable waterways during this event. The regulation for marine events within Northern California, § 100.1103, specifies the location of the regulated area for the Sacramento Ironman Swim which encompasses portions of the American River and Sacramento River. During the enforcement period, the regulated area will be in effect in the navigable waters, from surface to bottom, defined by a line drawn from Township 9 Park to North of the Tower Bridge.

During the enforcement period, under the provisions of 33 CFR 100.1103(b), if you are the operator of a vessel in the regulated area you must comply with directions from the Patrol Commander (PATCOM) or any other Official Patrol, defined as a Federal, State, or local law enforcement agency on scene to assist the Coast Guard in enforcing the regulated area. The PATCOM or Official Patrol may, upon request, allow the transit of commercial vessels through regulated areas when it is safe to do so.

In addition to this notification of enforcement in the Federal Register, the Coast Guard plans to provide notification of this enforcement period via the Local Notice to Mariners. If the Captain of the Port determines that the regulated area need not be enforced for the full duration stated in this notification, a Broadcast Notice to Mariners or other marine broadcast may be used to grant general permission to enter the regulated area.

Dated: October 12, 2023.
Taylor Q. Lam,
Captain, U.S. Coast Guard, Captain of the Port San Francisco.

[FR Doc. 2023-22977 Filed 10-17-23; 8:45 am]

BILLING CODE 9110-04-P